DEPARTMENT OF TRANSPORTATION

Federal Aviation Administration

14 CFR Part 39

[Docket No. FAA-2004-20006; Directorate Identifier 2004-CE-49-AD; Amendment 39-14059; AD 2005-08-07]

RIN 2120-AA64

Airworthiness Directives; Pilatus Aircraft Limited Models B4-PC11, B4-PC11A, and B4-PC11AF Sailplanes

AGENCY: Federal Aviation Administration (FAA), DOT.

ACTION: Final rule.

SUMMARY: The FAA adopts a new airworthiness directive (AD) for all Pilatus Aircraft Limited (Pilatus) Models B4-PC11, B4-PC11A, and B4-PC11AF sailplanes. This AD requires you to repetitively inspect the control-column support for cracks and, if any cracks are found, replace the control-column support with a new support. This AD results from mandatory continuing airworthiness information (MCAI) issued by the airworthiness authority for Switzerland. We are issuing this AD to detect and correct cracks in the control-column support, which could result in failure of the support. This failure could lead to loss of the primary flight control system.

DATES: This AD becomes effective on June 2, 2005.

As of June 2, 2005, the Director of the Federal Register approved the incorporation by reference of certain publications listed in the regulation.

ADDRESSES: To get the service information identified in this AD, contact Pilatus Aircraft Ltd., Customer Liaison Manager, CH-6371 Stans, Switzerland; telephone: +41 41 619 6208; facsimile: +41 41 619 7311; email: fodermatt@pilatus-aircraft.com or from Pilatus Business Aircraft Ltd., Product Support Department, 11755 Airport Way, Broomfield, Colorado 80021; telephone: (303) 465-9099; facsimile: (303) 465-6040.

To view the AD docket, go to the Docket Management Facility; U.S. Department of Transportation, 400 Seventh Street, SW., Nassif Building, Room PL-401, Washington, DC 20590-001 or on the Internet at http://dms.dot.gov. The docket number is FAA-2004-20006; Directorate Identifier 2004-CE-49-AD.

FOR FURTHER INFORMATION CONTACT: Doug Rudolph, Aerospace Engineer, FAA, Small Airplane Directorate, 901 Locust, Room 301, Kansas City, Missouri 64106; telephone: (816) 329-4059; facsimile: (816) 329-4090.

SUPPLEMENTARY INFORMATION:

Discussion

What events have caused this AD? The Federal Office for Civil Aviation (FOCA), which is the airworthiness authority for Switzerland, recently notified FAA that an unsafe condition may exist on all Pilatus Aircraft Limited (Pilatus) Models B4-PC11, B4-PC11A, and B4-PC11AF sailplanes. The FOCA reports nine occurrences of cracks in the support of the control-column (part number (P/N) 112.35.11.072).

What is the potential impact if FAA took no action? Cracks in the control-column support could result in failure and lead to loss of the primary flight control system.

Has FAA taken any action to this point? We issued a proposal to amend part 39 of the Federal Aviation Regulations (14 CFR part 39) to include an AD that would apply to all Pilatus Aircraft Limited (Pilatus) Models B4-PC11, B4-PC11A, and B4-PC11AF sailplanes. This proposal was published in the Federal Register as a notice of proposed rulemaking (NPRM) on February 11, 2005 (70 FR 7217). The NPRM proposed to require you to repetitively inspect the control-column support for cracks and, if any cracks are found, replace the control-column support with a new support.

Comments

Was the public invited to comment? We provided the public the opportunity to participate in developing this AD. We received no comments on the proposal or on the determination of the cost to the public.

Conclusion

What is FAA's final determination on this issue? We have carefully reviewed the available data and determined that air safety and the public interest require adopting the AD as proposed except for minor editorial corrections. We have determined that these minor corrections:

—Are consistent with the intent that was proposed in the NPRM for correcting the unsafe condition; and

—Do not add any additional burden upon the public than was already proposed in the NPRM.

Changes to 14 CFR Part 39—Effect on the AD

How does the revision to 14 CFR part 39 affect this AD? On July 10, 2002, the FAA published a new version of 14 CFR part 39 (67 FR 47997, July 22, 2002), which governs the FAA's AD system. This regulation now includes material that relates to altered products, special flight permits, and alternative methods of compliance. This material previously was included in each individual AD. Since this material is included in 14 CFR part 39, we will not include it in future AD actions.

Costs of Compliance

How many sailplanes does this AD impact? We estimate that this AD affects 32 sailplanes in the U.S. registry.

What is the cost impact of this AD on owners/operators of the affected sailplanes? We estimate the following costs to do the inspection of the control-column support:

Labor cost | Parts cost | Total cost per sailplane | Total cost on U.S. operators
1 work hour × $65 per hour = $65 | Not applicable | $65 | 32 × $65 = $2,080

We estimate the following costs to do any necessary replacements that would be required based on the results of this inspection. We have no way of determining the number of sailplanes that may need this replacement of the control-column support:

Labor cost | Parts cost | Total cost per sailplane
5 work hours × $65 per hour = $325 | $250 | $575

Authority for This Rulemaking

What authority does FAA have for issuing this rulemaking action? Title 49 of the United States Code specifies the FAA's authority to issue rules on aviation safety. Subtitle I, section 106 describes the authority of the FAA Administrator. Subtitle VII, Aviation Programs, describes in more detail the scope of the agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this AD.

Regulatory Findings

Will this AD impact various entities? We have determined that this AD will not have federalism implications under Executive Order 13132. This AD will not have a substantial direct effect on the States, on the relationship between the national government and the States, or on the distribution of power and responsibilities among the various levels of government.

Will this AD involve a significant rule or regulatory action? For the reasons discussed above, I certify that this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a summary of the costs to comply with this AD (and other information as included in the Regulatory Evaluation) and placed it in the AD Docket. You may get a copy of this summary by sending a request to us at the address listed under ADDRESSES. Include “Docket No. FAA-2004-20006; Directorate Identifier 2004-CE-49-AD” in your request.

List of Subjects in 14 CFR Part 39

Air transportation, Aircraft, Aviation safety, Incorporation by reference, Safety.

Adoption of the Amendment

Accordingly, under the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. FAA amends § 39.13 by adding a new AD to read as follows:

2005-08-07 Pilatus Aircraft Limited: Amendment 39-14059; Docket No. FAA-2004-20006; Directorate Identifier 2004-CE-49-AD.

When Does This AD Become Effective?

(a) This AD becomes effective on June 2, 2005.

What Other ADs Are Affected by This Action?

(b) None.

What Sailplanes Are Affected by This AD?

(c) This AD affects Models B4-PC11, B4-PC11A, and B4-PC11AF sailplanes, all serial numbers, that are certificated in any category.

What Is the Unsafe Condition Presented in This AD?

(d) This AD is the result of mandatory continuing airworthiness information (MCAI) issued by the airworthiness authority for Switzerland. The actions specified in this AD are intended to detect and correct cracks in the control-column support, which could result in failure of the support. This failure could lead to loss of the primary flight control system.

What Must I Do To Address This Problem?

(e) To address this problem, you must do the following:

Actions | Compliance | Procedures
(1) Inspect the control-column support (part number (P/N) 112.35.11.072) for cracks | Initially inspect within 12 calendar months after the last inspection under Pilatus Aircraft Ltd. Service Bulletin No. 1005, Revision No. 1, dated April 9, 2003, or Pilatus Aircraft Ltd. Service Bulletin No. 1005, Revision No. 2, dated April 22, 2004, where no cracks were found or within the next 30 days after June 2, 2005 (the effective date of this AD), whichever occurs later, unless already done. Repetitively inspect 2004. thereafter at intervals not to exceed every 12 calendar months regardless of whether the control-column support was replaced | Follow Pilatus B4-PC 11 Aircraft Ltd. Service Bulletin No. 1005, Revision No. 2, dated April 22, 2004.
(2) If any cracks are found after the inspection required by paragraph (e)(1) of this AD, replace the control-column support (P/N 112.35.11.072) with a new control-column support (P/N 112.35.11.072) | Before further flight after the inspection required by paragraph (e)(1) of this AD where you found the crack. Continue the repetitive inspections required by paragraph (e)(1) of this AD | Follow Pilatus B4-PC 11 Aircraft Ltd. Service Bulletin No. 1005, Revision No. 2, dated April 22, 2004.

May I Request an Alternative Method of Compliance?

(f) You may request a different method of compliance or a different compliance time for this AD by following the procedures in 14 CFR 39.19. Unless FAA authorizes otherwise, send your request to your principal inspector. The principal inspector may add comments and will send your request to the Manager, Standards Office, Small Airplane Directorate, FAA. For information on any already approved alternative methods of compliance, contact Doug Rudolph, Aerospace Engineer, FAA, Small Airplane Directorate, 901 Locust, Room 301, Kansas City, Missouri 64106; telephone: (816) 329-4059; facsimile: (816) 329-4090.

May I Obtain a Special Flight Permit for the Initial Inspection Requirement of This AD?

(g) No. Special flight permits are not allowed for this AD.

Is There Other Information That Relates to This Subject?

(h) Swiss AD Number HB 2004-491, dated December 23, 2004, also addresses the subject of this AD.

Does This AD Incorporate Any Material by Reference?

(i) You must do the actions required by this AD following the instructions in Pilatus B4-PC 11 Aircraft Ltd. Service Bulletin No. 1005, Revision No. 2, dated April 22, 2004. The Director of the Federal Register approved the incorporation by reference of this service bulletin in accordance with 5 U.S.C. 552(a) and 1 CFR part 51. To get a copy of this service information, contact Pilatus Aircraft Ltd., Customer Liaison Manager, CH-6371 Stans, Switzerland; telephone: +41 41 619 6208; facsimile: +41 41 619 7311; email: fodermatt@pilatus-aircraft.com or from Pilatus Business Aircraft Ltd., Product Support Department, 11755 Airport Way, Broomfield, Colorado 80021; telephone: (303) 465-9099; facsimile: (303) 465-6040. To review copies of this service information, go to the National Archives and Records Administration (NARA). For information on the availability of this material at NARA, go to: http://www.archives.gov/federal_register/code_of_federal_regulations/ibr_locations.html or call (202) 741-6030. To view the AD docket, go to the Docket Management Facility; U.S. Department of Transportation, 400 Seventh Street, SW., Nassif Building, Room PL-401, Washington, DC 20590-001 or on the Internet at http://dms.dot.gov. The docket number is FAA-2004-20006; Directorate Identifier 2004-CE-49-AD.

Issued in Kansas City, Missouri, on April 11, 2005.
Nancy C. Lane,
Acting Manager, Small Airplane Directorate, Aircraft Certification Service.

[FR Doc. 05-7563 Filed 4-20-05; 8:45 am]

BILLING CODE 4910-13-P